DEPARTMENT OF VETERANS AFFAIRS

[OMB Control No. 2900-0128]

Agency Information Collection (Notice of Lapse—Government Life Insurance) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration, Department of Veterans Affairs, will submit the collection of information abstracted below to the Office of Management and Budget (OMB) for review and comment. The PRA submission describes the nature of the information collection and its expected cost and burden; it includes the actual data collection instrument.

DATES: Comments must be submitted on or before July 27, 2012.

ADDRESSES: Submit written comments on the collection of information through www.Regulations.gov; or to VA's OMB Desk Officer, OMB Human Resources and Housing Branch, New Executive Office Building, Room 10235, Washington, DC 20503 (202) 395-7316. Please refer to “OMB Control No. 2900-0128” in any correspondence.

FOR FURTHER INFORMATION CONTACT: Denise McLamb, Enterprise Records Service (005R1B), Department of Veterans Affairs, 810 Vermont Avenue NW., Washington, DC 20420, (202) 632-7479, fax (202) 632-7583 or email denise.mclamb@va.gov. Please refer to “OMB Control No. 2900-0128.”

SUPPLEMENTARY INFORMATION: Titles:

a. Notice of Lapse—Government Life Insurance, VA Form 29-389.

b. Application for Reinstatement, VA Form 29-389-1.

OMB Control Number: 2900-0128.

Type of Review: Extension of a currently approved collection.

Abstract: VA Forms 29-389 and 29-389-1 are used to inform claimants that their government life insurance has lapsed or will lapse due to nonpayment of premiums. The claimant must complete the application to reinstate the insurance and to elect to pay the past due premiums. VA uses the data collected to determine the claimant's eligibility for reinstatement of such insurance.

An agency may not conduct or sponsor, and a person is not required to respond to a collection of information unless it displays a currently valid OMB control number. The Federal Register Notice with a 60-day comment period soliciting comments on this collection of information was published on April 12, 2012, at page 22069.

Affected Public: Individuals or Households.

Estimated Annual Burden:

a. VA Form 29-389—3,399 hours.

b. VA Form 29-389-1—1,060 hours.

Estimated Average Burden per Respondent:

a. VA Form 29-389—12 minutes.

b. VA Form 29-389-1—10 minutes.

Frequency of Response: On occasion.

Estimated Number of Respondents:

a. VA Form 29-389—16,993.

VA Form 29-389-1—6,359.

Dated: June 22, 2012.
By direction of the Secretary.
Denise McLamb,
Program Analyst, Enterprise Records Service.

[FR Doc. 2012-15661 Filed 6-26-12; 8:45 am]

BILLING CODE 8320-01-P